SMALL BUSINESS ADMINISTRATION

Reporting and Recordkeeping Requirements Under OMB Review; Correction

AGENCY: U.S. Small Business Administration.

ACTION: 30-Day notice; correction.

SUMMARY: The Small Business Administration (SBA) published a document in the Federal Register of December 8, 2025, concerning request for comments on a collection of information under OMB review for SBA Form 1993 (OMB Control No. 3245-0313).

FOR FURTHER INFORMATION CONTACT: Interim Agency Clearance Officer Shauniece Carter; Shauniece.Carter@sba.gov; (202) 921-2198.

SUPPLEMENTARY INFORMATION:

Correction

In the Federal Register of December 8, 2025, in FR. Doc. 2025-22266, on page 56824, in the third column, correct the Dates caption to read:

DATES: Submit comments on or before January 7, 2026.

Shauniece Carter,
Interim Agency Clearance Officer.

[FR Doc. 2025-23646 Filed 12-22-25; 8:45 am]

BILLING CODE 8026-09-P